ENVIRONMENTAL PROTECTION AGENCY

[EPA-HQ-OECA-2016-0009; FRL-10013-11-OMS]

Information Collection Request Submitted to OMB for Review and Approval; Comment Request; NESHAP for Group IV Polymers and Resins (Renewal)

AGENCY: Environmental Protection Agency (EPA).

ACTION: Notice.

SUMMARY: The Environmental Protection Agency (EPA) has submitted an information collection request (ICR), NESHAP for Group IV Polymers and Resins (EPA ICR Number 2457.04, OMB Control Number 2060-0682), to the Office of Management and Budget (OMB) for review and approval in accordance with the Paperwork Reduction Act. This is a proposed extension of the ICR, which is currently approved through September 30, 2020. Public comments were previously requested, via the Federal Register, on May 6, 2019 during a 60-day comment period. This notice allows for an additional 30 days for public comments. A fuller description of the ICR is given below, including its estimated burden and cost to the public. An agency may neither conduct nor sponsor, and a person is not required to respond to a collection of information unless it displays a currently valid OMB control number.

DATES: Additional comments may be submitted on or before August 31, 2020.

ADDRESSES: Submit your comments, referencing Docket ID Number EPA-HQ-OECA-2016-0009, to EPA online using www.regulations.gov (our preferred method), or by email to docket.oeca@epa.gov, or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Group IV Polymers and Resins (40 CFR part 63, subpart JJJ) were proposed on March 29, 1995; promulgated on September 12, 1996; and most-recently amended on March 27, 2014. These regulations apply to each new and existing thermoplastic product process units (TPPU) and associated equipment that produce the subset of polymers and resins known as “Group IV Polymers and Resins” that is a major source of organic hazardous air pollutants (HAPs). Group IV polymers and resins include the following source categories: Acrylonitrile Butadiene Styrene (ABS), Methyl Methacrylate Acrylonitrile Butadiene Styrene (MABS), Methyl Methacrylate Butadiene Styrene (MABS), Nitrile Resin, Polyethylene Terephthalate (PET), Polystyrene (PS), and Styrene Acrylonitrile (SAN). The following processes are excluded from this rule: Research and development facilities; polymerization processes occurring in a mold; processes which manufacture binder systems containing thermoplastic product for paints, coatings, or adhesives; finishing processes including equipment such as compounding units, spinning units, drawing units, extruding units, and other finishing steps; and solid state polymerization processes. New facilities include those that commenced construction or reconstruction after the date of proposal and meets the new source definitions at § 63.1310(i). This information is being collected to assure compliance with 40 CFR part 63, subpart JJJ.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Each new and existing thermoplastic product process unit (TPPU) and associated equipment that produces the subset of polymers and resins known as “Group IV Polymers and Resins” that is a major source of organic hazardous air pollutants (HAPs).

Respondent's obligation to respond: Mandatory (40 CFR part 63, subpart JJJ).

Estimated number of respondents: 24 (total).

Frequency of response: Initially, occasionally, semiannually, and quarterly.

Total estimated burden: 141,000 hours (per year). Burden is defined at 5 CFR 1320.3(b).

Total estimated cost: $23,700,000 (per year), which includes $7,430,000 in annualized capital/startup and/or operation & maintenance costs.

Changes in the Estimates: There is a decrease in burden from the most-recently approved ICR as currently identified in the OMB Inventory of Approved Burdens. This decrease is not due to any program changes. The decrease in burden is due to a decrease in the number of respondents. This decrease was determined based on data collected as part of other recent EPA rulemakings, including a review of chemical manufacturing facilities identified as subject to Subpart JJJ through review of facility air permits and EPA's ECHO and ICIS databases. Due to the decrease in the number of identified facilities, we assume there is zero or negative industry growth over the next three years. Therefore, the total respondent labor burden and operation and maintenance (O&M) costs have decreased in this ICR.

Courtney Kerwin,
Director, Regulatory Support Division.

[FR Doc. 2020-16579 Filed 7-30-20; 8:45 am]

BILLING CODE 6560-50-P